DEPARTMENT OF DEFENSE

Department of the Army, Corps of Engineers

33 CFR Part 323

ENVIRONMENTAL PROTECTION AGENCY

40 CFR Part 232

[FRL-6945-3]

Further Revisions to the Clean Water Act Regulatory Definition of “Discharge of Dredged Material”: Delay of Effective Date

AGENCIES: Army Corps of Engineers, Department of the Army, DOD; and Environmental Protection Agency.

ACTION: Final Rule; Delay of Effective Date.

SUMMARY: In accordance with the memorandum of January 20, 2001, from the Assistant to the President and Chief of Staff, entitled “Regulatory Review Plan,” published in the Federal Register on January 24, 2001, this action temporarily delays for 60 days the effective date of the rule entitled “Further Revisions to the Clean Water Act Regulatory Definition of ‘Discharge of Dredged Material',” published in the Federal Register on Wednesday, January 17, 2001, at 66 FR 4549. That rule amends Clean Water Act section 404 regulations defining the term “discharge of dredged material.”

DATES: The effective date of Further Revisions to the Clean Water Act Regulatory Definition of “Discharge of Dredged Material,” amending 33 CFR part 323 and 40 CFR part 232, published in the Federal Register on Wednesday, January 17, 2001, at 66 FR 4549, is delayed for 60 days, from the original February 16, 2001, effective date to a new effective date of April 17, 2001.

FOR FURTHER INFORMATION CONTACT: For information on today's action, contact either Mr. Michael Smith, U.S. Army Corps of Engineers, ATTN: CECW-OR (3F73), 441 “G” Street, NW, Washington, DC 203140-1000, phone: (202) 761-4598, or Cynthia Puskar, U.S. Environmental Protection Agency, Office of Water (4201), 1200 Pennsylvania Avenue N.W., Washington, DC 20460, phone: (202) 260-8532.

SUPPLEMENTARY INFORMATION: To the extent that 5 U.S.C. 553 applies to this action, it is exempt from notice and comment because it constitutes a rule of procedure under 5 U.S.C. 553(b)(A). Alternatively, the agencies' implementation of this action without opportunity for public comment, effective immediately upon publication today in the Federal Register, is based on the good cause exceptions in 5 U.S.C. 553(b)(B) and 553(d)(3). Seeking public comment is impracticable, unnecessary and contrary to the public interest. The temporary 60-day delay in effective date is necessary to give EPA and Corps officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this rule immediately effective upon publication.

Dated: February 9, 2001.
Claudia L. Tornblom,
Deputy Assistant Secretary of the Army (Management and Budget), Department of the Army.
Dated: February 12, 2001.
Christine T. Whitman,
Administrator, Environmental Protection Agency.

[FR Doc. 01-3843 Filed 2-14-01; 8:45 am]

BILLING CODE 6560-50-P